DEPARTMENT OF HEALTH AND HUMAN SERVICES

Centers for Disease Control and Prevention

Disease, Disability, and Injury Prevention and Control Special Emphasis Panel: Public Health Laboratory Biomonitoring Implementation Program, Program Announcement #03034

In accordance with section 10(a)(2) of the Federal Advisory Committee Act (Pub. L. 92-463), the Centers for Disease Control and Prevention (CDC) announces the following meeting:

Name: Disease, Disability, and Injury Prevention and Control Special Emphasis Panel (SEP): Public Health Laboratory Biomonitoring Implementation Program, Program Announcement #03034.

Times and Dates: 8:30 a.m.-9:15 a.m., July 28, 2003 (Open), 9:15 a.m.-4:30 p.m., July 28, 2003 (Closed).

Place: J.W. Marriott, 3300 Lenox Road, NE., Atlanta, GA 30326, Telephone 404.262.3344.

Status: Portions of the meeting will be closed to the public in accordance with provisions set forth in Section 552b(c) (4) and (6), Title 5 U.S.C., and the Determination of the Director, Management Analysis and Services Office, CDC, pursuant to Public Law 92-463.

Matters To Be Discussed: The meeting will include the review, discussion, and evaluation of applications received in response to Program Announcement #03034.

For Further Information Contact: Drue Barrett, Ph.D., Deputy Associate Director for Science, National Center for Environmental Health, CDC, 4770 Buford Highway, MS-F29, Atlanta, GA 30341, Telephone 770.488.7653.

The Director, Management Analysis and Services Office, has been delegated the authority to sign Federal Register notices pertaining to announcements of meetings and other committee management activities, for both the CDC and the Agency for Toxic Substances and Disease Registry.

Dated: June 26, 2003.
John C. Burckhardt,
Acting Director, Management Analysis and Services Office, Centers for Disease Control and Prevention (CDC).

[FR Doc. 03-17017 Filed 7-3-03; 8:45 am]

BILLING CODE 4163-18-P